DEPARTMENT OF TRANSPORTATION

Federal Aviation Administration

[Docket No. 28895]

Airport Privatization Pilot Program

AGENCY: Federal Aviation Administration (FAA), DOT.

ACTION: Notice of public meeting for public comment on the final application of Niagara Falls International Airport, Niagara Falls, New York.

SUMMARY: On March 5, 2001, the Federal Aviation Administration (FAA) published a notice in the Federal Register (66 FR 133366) seeking information and comments from interested parties on the final application by the Niagara Frontier Transportation Authority (NFTA) for participation of Niagara Falls International Airport (IAG) in the Airport Privatization Pilot Program. The deadline for submitting comments is May 4, 2001. In an effort to provide the public the opportunity to comment on the final application, the FAA will conduct a public meeting on Monday, March 19, 2001, at Niagara Falls Community College.

DATES: The public meeting will be held on Monday, March 19, 2001, beginning at 7 p.m.

ADDRESSES: The public meeting will be held in the auditorium of the Niagara County Community College, 3111 Saunders Settlement Road, Sanborn, NY. IAG final application is available for public review in the Federal Aviation Administration, Office of Chief Counsel, Attention: Rules Docket (AGC-200), Docket No. 28895, 800 Independence Avenue, SW., Washington, DC 20591. NFTA, the airport sponsor, has also made a copy of the application available at the following locations:

Buffalo & Erie County Public Library, 1 Lafayette Square, Buffalo, New York, 14202, (716) 858-8900

Niagara Frontier Transportation Authority, 181 Ellicott Street, Buffalo, New York, 14203, Attn: Ruth Keating, (716) 855-7398

Earl W. Brydges Public Library, 1425 Main Street, Niagara Falls, New York, 14305, (716) 286-4881

Niagara Falls International Airport, Niagara Falls Boulevard, Niagara Falls, New York, 14304, (716) 297-4494

Written comments on the IAG final application must be delivered or mailed, in quadruplicate, to: the Federal Aviation Administration, Office of Chief Counsel, Attention: Rules Docket (AGC-200), Docket No. #28895, 800 Independence Avenue, SW., Washington, DC 20591. Written comments must be marked “Docket No. 28895”. Commenters wishing the FAA to acknowledge receipt of their comments must include a preaddressed, stamped postcard on which the following statement is made: “Comments to Docket No. 28895.” The postcard will be date stamped and mailed to the commenter. Comments on this Notice may be delivered or examined in room 915G on weekdays, except Federal holidays, between 8:30 a.m. and 5:00 p.m. Commenters planning to speak at the public hearing are not required to submit written comments.

FOR FURTHER INFORMATION CONTACT: Kevin C. Willis, Compliance Officer, (202-267-8741), Airport Compliance Division (AAS-400), Office of Airport Safety and Standards, Federal Aviation Administration, 800 Independence Ave. SW, Washington, DC 20591.

SUPPLEMENTARY INFORMATION: Section 149 of the Federal Aviation Administration Authorization Act of 1996, Pub. L. No. 104-264 (October 9, 1996) (1996 Reauthorization Act), added a new § 47134 to Title 49 of the U.S. Code. Section 47134 authorizes the Secretary of Transportation, and through delegation, the FAA Administrator, to exempt a sponsor of a public use airport that has received Federal assistance from certain Federal requirements in connection with the privatization of the airport by sale or lease to a private party. Specifically, the Administrator may exempt the sponsor from all or part of the requirements to use airport revenues for airport-related purposes (upon approval of 65 percent of the air carriers serving the airport and having 65 percent of the landed weight), to pay back a portion of Federal grants upon the sale of an airport, and to return airport property deeded by the Federal Government upon transfer of the airport. Since Niagara Falls International Airport is a general aviation airport without air carrier service, the 65 percent approval of air carriers is not required. The Administrator is also authorized to exempt the private purchaser or lessee from the requirement to use all airport revenues for airport-related purposes, to the extent necessary to permit the purchaser or lessee to earn compensation from the operations of the airport.

On September 16, 1997, the FAA issued a notice of procedures to be used in applications for exemption under Airport Privatization Pilot Program (62 FR 48693). The notice of procedures and public comments received are available for review in FAA Rules Docket No. 28895.

On June 5, 2000, NFTA filed a final application and selected Cintra Niagra Falls Airport Corporation, USA, as the airport's private operator. Cintra Niagara proposes to lease the airport under a 99-year lease agreement. It plans to market the airport to develop new services such as low cost domestic passenger flights to business and leisure centers, international charters and cargo services. Cintra Niagara will commit $10.1 million in the initial 13 years for the purposes of operating, managing and developing the airport. $1.125 million will be used for operating, marketing and capital improvement costs. The remaining $8.975 million will be used for marketing expenses and to fund the initial five year capital planning period.

The public meeting scheduled for March 19, 2001, will begin at 7 p.m. in the school auditorium of the Niagara County Community College, 3111 Saunders Settlement Road, Sanborn, NY. NFTA, the airport owner, will provide a brief presentation of the privatization initiative followed by public comments on the IAG final application for inclusion in Docket No. 28895 and considered by the FAA in making its decision on the application. American Sign Language interpretative services will be available. Registration for individuals wishing to speak will begin at 6:30 pm directly outside the auditorium. Because the IAG final application is presently before the agency for a decision, the FAA will not be able to discuss the application or the pending agency decision.

Issued in Washington, DC on March 7, 2001.
David L. Bennett,
Director, Office of Airport Safety and Standards.

[FR Doc. 01-6235 Filed 3-12-01; 8:45 am]

BILLING CODE 4910-13-M